DEPARTMENT OF THE TREASURY

Departmental Offices; Delegation of Authority to the Secretary of Homeland Security

AGENCY: Departmental Offices, Treasury.

ACTION: Notice.

DATES: Treasury Department Order 165-09 became effective on February 28, 2003.

SUMMARY: On February 28, 2003, the Secretary of the Treasury issued Treasury Department Order 165-09 to preserve the ability of the Department of Homeland Security to continue to perform the functions of the United States Customs Service pending consideration of a delegation of authority concerning the Customs revenue function retained by the Secretary of the Treasury pursuant to the Homeland Security Act of 2002. Under the Order, the Department of the Treasury retains the same authority over the Customs revenue functions it possessed prior to the transfer of the United States Customs Service to the Department of Homeland Security.

SUPPLEMENTARY INFORMATION: The text of Treasury Department Order 165-09 follows.

Dated: March 3, 2003.
Richard S. Carro,
Senior Advisor to the General Counsel (Regulatory Affairs).

Treasury Department Order No. 165-09

Maintenance of delegation in respect to general authority over Customs revenue functions vested in the Secretary of the Treasury, as set forth and defined in the Homeland Security Act of 2002.

Treasury Department, Washington, DC, February 28, 2003

Whereas the Homeland Security Act of 2002 (Pub. L. 107-296) (the “Act”) was enacted into law on November 25, 2002;

Whereas the Act transfers the United States Customs Service from the Treasury Department to a new Department of Homeland Security, and, under the President's Reorganization Plan submitted to the Congress, this becomes effective March 1, 2003;

Whereas the Act requires that legal authority over the Customs revenue functions vested in the Secretary of the Treasury shall be retained, but may be delegated to the Secretary of Homeland Security in whole or in part;

Whereas the Treasury Department is studying the proper allocation of these authorities and consulting with the Administration and Congress in that regard;

Whereas the pre-existing Treasury Order 165, as amended (“Treasury Order 165”), has provided the Commissioner of Customs a delegation of authority from the Secretary of the Treasury for Customs functions;

Whereas the United States Customs Service relies on delegated authority for important aspects of its functions and operations;

Now therefore, in order to preserve the ability of the Department of Homeland Security to continue to perform the functions of the Customs Service and to provide adequate time for a considered decision on any new delegation, I hereby order that, with respect to authority over Customs revenue functions, Treasury Order 165 remains in effect except that the authority previously delegated to the Commissioner of Customs as an official of the Department of Treasury is now delegated to the Secretary of Homeland Security. Treasury shall retain the same authority delineated in Treasury Order 165 that it possessed prior to the transfer of the Customs Service to the Department of Homeland Security. Consistent with past interpretation and practice, I note that the use of the term “transferred” with respect to certain authority delegated in Treasury Order 165 shall continue to be understood to effect only a delegation.

John W. Snow,

Secretary of the Treasury.

[FR Doc. 03-5359 Filed 3-5-03; 8:45 am]

BILLING CODE 4810-25-P